DEPARTMENT OF COMMERCE

National Institute of Standards and Technology

Notice of Government Owned Inventions Available for Licensing

AGENCY: National Institute of Standards and Technology Commerce.

ACTION: Notice of government owned inventions available for licensing.

SUMMARY: The inventions listed below are owned in whole by the U.S. Government, as represented by the Department of Commerce. The Department of Commerce's interest in the inventions is available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, e-mail: mclague@nist.gov, or fax: 301-869-2751. Any request for information should include the NIST Docket number and title for the relevant invention as indicated below.

SUPPLEMENTARY INFORMATION: NIST may enter into a Cooperative Research and Development Agreement (“CRADA”) with the licensee to perform further research on the inventions for purposes of commercialization. The inventions available for licensing are:

[Docket No.: 97-021US]

Title: Temperature Calibration Wafer For Rapid Thermal Processing Using Thin-Film Thermocouples.

Abstract: This invention enables the measurement of temperature and the calibration of temperature measurements in rapid thermal processing tools for silicon wafer processing to a greater accuracy than previously possible. The invention is a device which is a calibration wafer of novel construction and capabilities. The calibration wafer is comprised of an array of junctions of thin film thermocouples which traverse the silicon wafer (typically 200 mm in diameter) and are welded to thermocouple wires of the same composition as the thin films. The advantages of very low mass thin-film thermocouples in making these measurements are greatest under the extremely high heat flux conditions present in rapid thermal processing tools (100 w/cm2). In order to achieve these measurements with thin-film thermocouples at temperatures ranging up to 900 degrees celsius a novel approach was taken in the design and fabrication of the wafer including the incorporation of an adhesion film for the thermoelements, diffusion barriers, and high temperature dielectric insulators.

[Docket No.: 98-024D]

Title: System For Stabilizing And Controlling A Hoisted Load.

Abstract: The invention provides a system which can both be adapted to existing single point lift mechanisms, and constrain a hoisted load in all six degrees of freedom, includes a suspension point, an assembly, a lateral tension lines member, and a control system. The assembly includes first and second platforms connected by a plurality of control cables which can precisely control the position, velocity, and force of a hoisted element in six degrees of freedom. The position or tension of the control lines can be controlled either manually, automatically by computer, or in various combinations of manual and automatic control. Advantages associated with the system include not only the ability to control the position, velocity, and force of the attached load, tool, and/or equipment in six degrees of freedom using position and tension feedback, but its ready adaptation to existing single point lift mechanisms and relatively light weight, and its flexibility, ease, and precision of operation.

[Docket No.: 00-033US]

Title: Rapid Fluorescence Detection Of Binding To Nucleic Acid Drug Targets Labeled With Highly Fluorescent Nucleotide Base Analogs.

Abstract: This invention is available for nonexclusive licensing. A method is disclosed for selective substitution of highly flourescent nucleotide base analogs within the sequence of nucleic acid drug targets, such that these bases can be used as probes to monitor/screen for the interaction of ligands with a nucleic acid target. In designing the fluorescent nucleic acid target, information about the nucleic acid structure and its native interaction with other macromolecules is used to engineer fluorescent analogs that display fluorescence emission quantum yields that are sensitive to interactions with ligands and/or other macromolecules. The general method of using changes in the fluorescence emission spectra as a probe for the interaction of the nucleic acid target with ligands has been named Flurescence Emission Peturbation (FREP).

Dated: May 3, 2002.
Karen H. Brown,
Deputy Director.

[FR Doc. 02-11779 Filed 5-9-02; 8:45 am]

BILLING CODE 3510-13-P